FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012014-000.

Title: CSAV/NYK Venezuela Space Chapter Agreement.

Parties: Compania Sud Americana De Vapores S.A. and Nippon Yusen Kaisha.

Filing Party: Wayne R. Rohde, Esq.; Sher & Blackwell LLP; 1850 M Street, NW.; Suite 900; Washington, DC 20036.

Synopsis: The agreement authorizes CSAV to charter space to NYK for carriage of vehicles and other cargo on car carriers from Baltimore, MD to ports in Venezuela.

Agreement No.: 201175-000.

Title: Port of NY/NJ Sustainable Services Agreement.

Parties: American Stevedoring, Inc.; APM Terminals North America, Inc.; Global Terminal & Container Services LLC; Maher Terminals LLC; New York Container Terminal, Inc.; and Port Newark Container Terminal LLC.

Filing Party: Carol N. Lambos; The Lambos Firm; 29 Broadway 9th Floor; New York, NY 10006-3101.

Synopsis: The agreement would authorize the parties to discuss issues to promote environmentally sensitive, efficient, and secure marine terminal operations in the Port of New York/New Jersey.

By Order of the Federal Maritime Commission.
Dated: October 26, 2007.
Bryant L. VanBrakle,
Secretary.

[FR Doc. E7-21458 Filed 10-30-07; 8:45 am]

BILLING CODE 6730-01-P